DEPARTMENT OF THE INTERIOR

Bureau of Ocean Energy Management

Alaska, Outer Continental Shelf, Chukchi Sea Planning Area, Oil and Gas Lease Sale 193; MMAA 104000

AGENCY: Bureau of Ocean Energy Management (BOEM), Interior.

ACTION: Notice of Availability of the Record of Decision for Chukchi Sea Outer Continental Shelf Oil and Gas Lease Sale 193.

SUMMARY: BOEM announces the availability of the Record of Decision (ROD) for remanded Chukchi Sea Outer Continental Shelf (OCS) Oil and Gas Lease Sale 193 (Lease Sale 193), originally held on February 6, 2008. BOEM prepared the Chukchi Sea Oil and Gas Lease Sale 193 Final Second Supplemental Environmental Impact Statement (SEIS) to address a deficiency identified by the U.S. Court of Appeals for the Ninth Circuit (Court of Appeals) in its opinion of January 22, 2014. The Final Second SEIS considers the potential impacts of oil and gas activities that could result from leases issued in Lease Sale 193, including the full range of likely production if oil production were to occur (80 FR 9266, Feb. 20, 2015).

In making her decision, the Assistant Secretary for Land and Minerals Management (ASLM) considered four alternatives for Lease Sale 193, the potential impacts for each alternative as presented in the Final Second SEIS, and all comments received throughout the National Environmental Policy Act (NEPA) process. After careful consideration, the ASLM selected BOEM's preferred alternative, to affirm Lease Sale 193 and leases previously issued. This selection meets the purpose and need for the proposed action, promotes orderly resource development with protection of the human, marine, and coastal environments, and ensures that the public receives an equitable return for these resources and that free-market competition is maintained.

FOR FURTHER INFORMATION CONTACT: For more information on the ROD, you may contact Mr. Michael Routhier, Bureau of Ocean Energy Management, Alaska OCS Region, 3801 Centerpoint Drive, Ste. 500, Anchorage, Alaska 99503. You may also contact Mr. Routhier by telephone at 907-334-5265.

SUPPLEMENTARY INFORMATION: In the Lease Sale 193 Final Second SEIS, BOEM evaluated four alternatives summarized below:

Alternative I—The Proposed Action: This alternative entails offering the entire Chukchi Sea Program Area for leasing. The area available for leasing under this alternative consists of approximately 34 million acres within the Chukchi Sea. Specifically excluded from this alternative was the 25 mile (40 kilometer (km)) buffer implemented by then-Secretary Kempthorne in the Final OCS Oil and Gas Leasing Program for 2007-2012.

Alternative I was not selected for the original sale in 2008. Since Lease Sale 193 has already occurred, all of the leases originally issued are contained in an area smaller than, but covered by, Alternative I. Accordingly, selecting Alternative I would result in affirming Lease Sale 193 and all of the leases issued as a result of the sale.

Alternative II—No Lease Sale: This alternative, which is the “No Action Alternative,” entails offering no areas in the Chukchi Sea for leasing. The opportunity to develop oil and gas resources that could have resulted from the lease sale would be precluded or postponed. This “no action” alternative would avoid any potential environmental impacts associated with the other alternatives. Since Lease Sale 193 has already occurred, selecting Alternative II would result in not affirming the lease sale and voiding or vacating the remaining 460 leases issued in 2008 as a result of Lease Sale 193.

Alternative III—Corridor I Deferral: This alternative entails offering the entire Chukchi Sea Program Area for leasing, minus a corridor (referred to as Corridor I) extending 60 miles (97 km) offshore along the coastward edge of the Program Area to protect important bowhead whale habitat. The area available for leasing under this alternative consists of approximately 24 million acres in the Chukchi Sea.

Five leases issued as a result of Lease Sale 193 are contained within Corridor I. Accordingly, selecting Alternative III would result in affirming the lease sale and all leases, except the Corridor I area, and those five leases, which would be vacated.

Alternative IV—Corridor II Deferral: Alternative IV was the alternative originally selected for Lease Sale 193 and BOEM's preferred alternative in the Final Second SEIS. This alternative entails offering the entire Chukchi Sea Program Area available for leasing, minus a corridor (referred to as Corridor II) along the coastward edge of the Program Area. The area covered by Corridor II is a subset of the area covered by Corridor I. The area for leasing under this Alternative consists of 29.4 million acres. Selecting Alternative IV would result in affirming Lease Sale 193 and all existing leases. Alternative IV was BOEM's preferred alternative because it represented a reasonable balance between environmental, economic, and technical considerations mandated by the OCS Lands Act.

After careful consideration, the ASLM has decided to select Alternative IV and affirm Lease Sale 193 and the leases issued as a result of the sale. As described in the ROD, the ASLM fully considered the potential impacts of this action as described in the Final Second SEIS, considered potential mitigation of potential impacts through deferral of sensitive OCS areas and implementation of lease stipulations, and articulated factors considered in selecting the agency's preferred alternative. In making her decision, the ASLM confirmed the previously adopted lease stipulations as being the most practicable means of reducing or avoiding impacts to the environment, while also noting that the OCS Lands Act provides BOEM and BSEE broad discretion to require additional mitigations on postlease activities.

In affirming Lease Sale 193 and preserving the opportunity to explore and possibly develop all the leases issued in Chukchi Sea Lease Sale 193, the ASLM's decision balances the national policies mandated by Congress to expeditiously and safely develop the natural resources of the OCS, subject to environmental safeguards, in a manner that is consistent with the maintenance of competition and other national needs. The ASLM's selection of Alternative IV, and adoption of all practicable mitigation measures at the lease sale stage, balances the goal of orderly resource development with protection of the human, marine, and coastal environments, while also ensuring that the public receives an equitable return for these resources and that free-market competition is maintained.

Record of Decision Availability: To obtain a single printed or CD copy of the ROD for Chukchi Sea Lease Sale 193, you may contact BOEM, Alaska OCS Region, Alaska OCS Region, 3801 Centerpoint Drive, Suite 500, Anchorage, Alaska 99503 or by telephone at 1-907-334-5200. An electronic copy of the ROD is available on BOEM's Internet Web site at http://www.boem.gov/About-BOEM/BOEM-Regions/Alaska-Region/Leasing-and-Plans/Leasing/Lease-Sales/Sale-193/Index.aspx.

Authority: This NOA is published pursuant to the regulations (40 CFR part 1506) implementing the provisions of the National Environmental Policy Act (NEPA) of 1969, as amended (42 U.S.C. 4321 et seq.).

Dated: March 31, 2015.
Abigail Ross Hopper,
Director, Bureau of Ocean Energy Management.

[FR Doc. 2015-07860 Filed 4-3-15; 8:45 am]

BILLING CODE 4310-MR-P